DEPARTMENT OF DEFENSE

Department of the Army, U.S. Army Corps of Engineers

DEPARTMENT OF THE INTERIOR

Bureau of Reclamation

Notice of Intent To Prepare a Draft Environmental Impact Statement for the Intake Diversion Dam Fish Passage Project, Dawson County, Montana

AGENCIES: Department of the Army, U.S. Army Corps of Engineers, DoD; Department of the Interior, U.S. Bureau of Reclamation.

ACTION: Notice.

SUMMARY: The U.S. Army Corps of Engineers (Corps) and the U.S. Bureau of Reclamation (Reclamation) propose to jointly prepare an environmental impact statement (EIS) that analyzes and discloses effects associated with actions to provide fish passage at the Intake Diversion Dam. The proposed Federal action is to improve passage for endangered pallid sturgeon and other native fish at Intake Diversion Dam in the lower Yellowstone River.

The Corps and Reclamation will serve as joint lead Federal agencies in the preparation of the Intake Diversion Dam Fish Passage EIS. The Corps will serve as administrative lead for National Environmental Policy Act compliance activities during preparation of the EIS. The EIS will include consideration of a range of reasonable alternatives to the proposed Federal action that meet the purpose and need of improving passage while continuing a viable and effective operation of the Lower Yellowstone Project. The Corps and Reclamation will each consider and approve a Record of Decision regarding actions and decisions for which the respective agencies are responsible.

DATES: Submit written comments on the scope of the issues and alternatives to be considered in the EIS on or before February 18, 2016.

A public scoping meeting will be held on January 21, 2016, 6:00 p.m. to 8:00 p.m., in Glendive, MT.

ADDRESSES: Send written scoping comments, requests to be added to the mailing list, or requests for sign language interpretation for the hearing impaired or other special assistance needs to U.S. Army Corps of Engineers Omaha District, ATTN: CENWO-PM-AA, 1616 Capitol Ave., Omaha, NE 68102; or email to cenwo-planning@usace.army.mil.

The scoping meeting will be located at Dawson County High School Auditorium, 900 N. Merrill Avenue, Glendive, MT 59330.

FOR FURTHER INFORMATION CONTACT: Ms. Tiffany Vanosdall, U.S. Army Corps of Engineers, 1616 Capitol Ave, Omaha, NE 68102, or tiffany.k.vanosdall@usace.army.mil.

SUPPLEMENTARY INFORMATION: The Corps and Reclamation are issuing this notice pursuant to section 102(2)(c) of the National Environmental Policy Act of 1969, as amended (NEPA), 42 U.S.C. 4321 et seq.; the Council on Environmental Quality's (CEQ) regulations for implementing the procedural provisions of NEPA, 43 CFR parts 1500 through 1508; the Department of the Interior's NEPA regulations, 43 CFR part 46.

Background Information

Reclamation's Lower Yellowstone Project is located in eastern Montana and western North Dakota. Intake Diversion Dam is located approximately 70 miles upstream of the confluence of the Yellowstone and Missouri rivers near Glendive, Montana. The Lower Yellowstone Project was authorized by the Secretary of the Interior on May 10, 1904. Construction of the Lower Yellowstone Project began in 1905 and included Intake Diversion Dam (also known as Yellowstone River Diversion Dam)—a 12-foot high wood and stone diversion dam that spans the Yellowstone River and diverts water into the Main Canal for irrigation. The Lower Yellowstone Project was authorized to provide a dependable water supply sufficient to irrigate approximately 52,000 acres of land on the benches above the west bank of the Yellowstone River. Water is also supplied to irrigate approximately 830 acres in the Intake Irrigation Project and 2,200 acres in the Savage Unit. Both of the smaller irrigation projects pump water from the Main Canal. The average annual volume of water diverted for these projects is 327,046 acre-feet.

The U.S. Fish and Wildlife Service (Service) listed the pallid sturgeon as endangered under the Endangered Species Act (ESA) in 1990. The best available science suggests Intake Diversion Dam impedes upstream migration of pallid sturgeon and their access to spawning and larval drift habitats. The lower Yellowstone River is considered by the Service to provide one of the best opportunities for recovery of pallid sturgeon.

Section 7(a)(2) requires each Federal agency to consult on any action authorized, funded, or carried out by the agency to ensure it does not jeopardize the continued existence of any endangered or threatened species. Reclamation has been in formal consultation with the Service to identify potential conservation measures to minimize adverse effects to pallid sturgeon associated with continued operation of the Lower Yellowstone Project. The Pallid Sturgeon Recovery Plan specifically identifies providing passage at Intake Diversion Dam to protect and restore pallid sturgeon populations. By providing passage at Intake Diversion Dam, approximately 165 river miles of spawning and larval drift habitat would become accessible in the Yellowstone River.

Section 3109 of the 2007 Water Resources Development Act authorizes the Corps to use funding from the Missouri River Recovery and Mitigation Program to assist Reclamation in the design and construction of Reclamation's Lower Yellowstone Project at Intake, Montana for the purpose of ecosystem restoration. Planning and construction of the Intake Project is a Reasonable and Prudent Alternative (RPA) for the Corps in the 2003 Missouri River Amended Biological Opinion (BiOp) as amended by letter exchange in 2009, 2010, and 2013. The Reclamation Act/Newlands Act of 1902 (Pub. L. 161) authorizes Reclamation to construct and maintain the facilities associated with the Lower Yellowstone Project, which includes actions or modifications necessary to comply with Federal law such as the ESA.

Reclamation initiated a collaborative effort with the Service; Corps; Montana Fish, Wildlife and Parks; and The Nature Conservancy through a Memorandum of Understanding (MOU) signed on July 8, 2005. Reclamation coordinated a value planning study in August 2005 with representatives from parties signatory to the MOU and the Lower Yellowstone Project Irrigation Districts to explore and evaluate a broad range of alternatives for fish passage and entrainment reduction.

In 2010, Reclamation and the Corps authorized the construction of a rock ramp and new screened headworks with the completion of an Environmental Assessment and Finding of No Significant Impact. The construction of the new headworks is complete and began operation during the 2012 irrigation season. During the final design of the rock ramp, following the release of the 2010 Environmental Assessment and Finding of No Significant Impact, important new information on the design, constructability, and sustainability of the proposed rock ramp surfaced along with new information regarding pallid sturgeon movement which led to a reevaluation of fish passage options.

In 2013, the Corps and Reclamation conducted a planning effort to examine new and previously considered alternatives. Following this effort, the Corps and Reclamation identified the bypass channel for detailed analysis which included a constraint related to Reclamation's obligation to deliver water necessary to continue a viable and effective operation of the Lower Yellowstone Project. A Supplemental Environmental Assessment and Finding of No Significant Impact selecting the bypass channel were completed in 2015. In response to concerns about the selected Bypass Channel Alternative, the Corps and Reclamation are proposing to prepare this EIS.

The Corps and Reclamation will use the scoping period to fully identify the range of potentially significant issues, actions, alternatives, and impacts to be considered in the EIS. This scoping period will ensure the public has sufficient opportunity to review and comment on the proposed Federal action and reasonable alternatives for fish passage at Intake Diversion Dam. Public comments are invited and encouraged to assist agencies in identifying the scope of potentially significant environmental, social, and economic issues relevant to the proposed Federal action and determining reasonable alternatives to be considered in the EIS. Current and past project information and analyses can be accessed at: http://www.usbr.gov/gp/mtao/loweryellowstone.

The Corps and Reclamation will host a public scoping meeting and are inviting agencies, tribes, non-governmental organizations, and the public to participate in an open exchange of information and to provide comments on the proposed scope of the EIS.

As required by CEQ's implementing regulations, the EIS will include consideration of a range of reasonable alternatives to the proposed Federal action that meet the purpose and need of improving pallid sturgeon passage while continuing a viable and effective operation of the Lower Yellowstone Project. The EIS will analyze and disclose environmental impacts associated with the proposed Federal action and alternatives together with engineering, operations and maintenance, social, and economic considerations. The public is invited and encouraged to identify issues and effects that should be addressed in the EIS, as well as reasonable alternatives to improve fish passage at the Intake Diversion Dam.

The public scoping meeting date or location may change based on inclement weather or exceptional circumstances. If the meeting date or location is changed, the Corps and Reclamation will issue a press release and post it on the web at http://www.usbr.gov/gp/mtao/loweryellowstone and http://www.nwo.usace.army.mil to announce the updated meeting details.

Special Assistance for Public Scoping Meeting

The meeting facility is physically accessible to people with disabilities. People needing special assistance to attend and/or participate in the open house should contact: U.S. Army Corps of Engineers Omaha District, ATTN: CENWO-PM-AA, 1616 Capitol Ave, Omaha, NE 68102; or email cenwo-planning@usace.army.mil. To allow sufficient time to process special requests, please contact no later than one week before the public scoping meeting.

Public Disclosure Statement

The Corps and Reclamation believe it is important to inform the public of the environmental review process. To assist the Corps and Reclamation in identifying and considering issues related to the proposed Federal action, comments made during formal scoping and later on the draft EIS should be as specific as possible. Reviewers must structure their participation in the environmental review of the proposal so that it is meaningful and alerts the Corps and Reclamation to the reviewer's position and contentions. It is very important that those interested in this proposed Federal action participate by the close of the scoping period so that substantive comments and objections are made available to the Corps and Reclamation at a time when they can meaningfully consider and respond to them.

If you wish to comment, you may mail or email your comments as indicated under the ADDRESSES section. Before including your address, phone number, email address, or any other personal identifying information in your comment, you should be aware that your entire comment—including your personal identifying information—may be made available to the public at any time. While you can request in your comment for us to withhold your personal identifying information from public review, we cannot guarantee that we will be able to do so.

John W. Henderson,
Colonel, Corps of Engineers, District Commander.
John F. Soucy,
Deputy Regional Director, Great Plains Region, Bureau of Reclamation.

[FR Doc. 2015-33066 Filed 12-31-15; 8:45 am]

BILLING CODE 3720-58-P